DEPARTMENT OF COMMERCE

National Oceanic and Atmospheric Administration

Agency Information Collection Activities; Submission to the Office of Management and Budget (OMB) for Review and Approval; Comment Request; Socioeconomics of Coral Reef Conservation

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on January 25, 2021 (86 FR 6876) during a 60-day comment period and again on April, 16, 2021 (86 FR 20120) during a 30-day comment period. This notice allows for an additional 30 days for public comments.

Agency: National Oceanic & Atmospheric Administration (NOAA), Commerce.

Title: Socioeconomics of Coral Reef Conservation, Guam 2023 Survey.

OMB Control Number: 0648-0646.

Form Number(s): None.

Type of Request: Regular, new information collection for an existing control number.

Number of Respondents: 800.

Average Hours per Response: 20 minutes (0.33 hours).

Total Annual Burden Hours: 267 hours.

Needs and Uses: This request is for a new information collection under the currently approved hybrid-generic information collection under OMB Control Number 0648-0646. The information collection is part of the National Coral Reef Monitoring Program (NCRMP), which was established by the National Oceanic and Atmospheric Administration (NOAA) Coral Reef Conservation Program (CRCP) under the authority of the Coral Reef Conservation Act of 2000. The CRCP was created to safeguard and ensure the welfare of the coral reef ecosystems along the coastlines of America's states and territories. In accordance with its mission goals, NOAA developed a survey to track relevant information regarding each jurisdiction's population, social and economic structure, the benefits of coral reefs and related habitats, the impacts of society on coral reefs, and the impacts of coral management on communities. The survey is repeated in each jurisdiction every five to seven years in order to provide longitudinal data and information for managers to effectively conserve coral reefs for current and future generations.

The purpose of this information collection is to obtain human dimensions information from residents in Guam. Specifically, NOAA is seeking information on the behaviors and activities related to coral reefs, as well as information on perceptions of coral reef conditions and attitudes toward specific reef conservation activities. The survey has a core set of questions that are the same for all jurisdictions to allow for information to be tracked over time. To account for geographical, cultural and linguistic differences between jurisdictions, the survey questions include items that are specific to the local context and developed based on jurisdictional partner feedback.

We intend to use the information collected through this survey instrument for research purposes, as well as for measuring and improving the results of our reef protection programs. Because many of our efforts to protect reefs rely on education and changing attitudes toward reef protection, the information collected will allow CRCP to ensure that programs are designed appropriately at the start, future program evaluation efforts are as successful as possible, and outreach efforts are targeting the intended recipients with useful information.

Affected Public: Individuals or households.

Frequency: Every 5-7 years.

Respondent's Obligation: Voluntary.

Legal Authority: Coral Reef Conservation Act of 2000.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0646.

Sheleen Dumas,
Department PRA Clearance Officer, Office of the Chief Information Officer, Commerce Department.

[FR Doc. 2022-08489 Filed 4-20-22; 8:45 am]

BILLING CODE 3510-JS-P